DEPARTMENT OF JUSTICE

National Institute of Justice

Agency Information Collection Activities: Proposed Collection; Comment Request

ACTION: Extension of a currently approved collection; Crime Mapping Survey.

The Department of Justice, Office of Justice Programs, National Institute of Justice, has submitted the following information collection request for review and clearance in accordance with the Paperwork Reduction Act of 1995. This proposed information collection is published to obtain comments from the public and affected agencies. Comments are encouraged and will be accepted for “sixty days” until March 20, 2000.

If you have additional comments, suggestions, or need a copy of the proposed information collection instrument with instructions or additional information, please contact the Office of Research and Evaluation, National Institute of Justice, 810 7th Street, NW, Washington, DC 20531, or via facsimile (202) 616-0275, Attention: La Vigne.

Written comments and suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of information collection: Extension of a currently approved collection.

(2) The title of the form/collection:

Crime Mapping Survey

(3) The agency form number, if any, and the applicable component of the Department sponsoring the collection: Form: None. Office of Research and Evaluation, National Institute of Justice, Office of Justice Programs, United States Department of Justice.

(4) Affected public who will be asked or required to respond, as well as a brief abstract: Primary: Law enforcement agencies.

Other: None.

This national survey is designed to determine the extent to which police departments, specifically crime analysts, are using computerized crime mapping. Surveys will be mailed to a randomly selected sample of police departments. The questionnaire will determine the level of crime mapping within departments, both in terms of hardware and software resources, as well as the types of maps that are produced and how they are used. The information collected from this survey will be used to advise the activities of the Crime Mapping Research Center.

(5) An estimate of the total number of respondents and the amount of time estimated for an average respondent to respond/reply: 2,798 respondents for an average of 33 minutes per response.

(6) An estimate of the total public burden (in hours) associated with the collection: The total hour burden to complete the nominations is 562.

If additional information is required contact: Mrs. Brenda E. Dyer, Deputy Clearance Officer, United States Department of Justice, Information Management and Security Staff, Justice Management Division, Suite 1220, National Place Building, 1331 Pennsylvania, NW, Washnington, D.C. 20530.

Dated: January 13, 2000.
Brenda E. Dyer,
Department Deputy Clearance Officer, United States Department of Justice.

[FR Doc. 00-1253 Filed 1-19-00; 8:45 am]

BILLING CODE 4410-18-M